NATIONAL SCIENCE FOUNDATION

National Science Board—Committee on Strategy and Budget; Sunshine Act Meetings; Notice

The National Science Board's Committee on Strategy and Budget, pursuant to NSF regulations (45 CFR part 614), the National Science Foundation Act, as amended (42 U.S.C. 1862n-5 and 1863(k)), and the Government in the Sunshine Act (5 U.S.C. 552b), hereby gives notice in regard to the scheduling of a meeting for the transaction of National Science Board business and other matters specified, as follows:

Date and Time: Monday, June 18, 2007, 11 a.m.

Subject Matter: Discussion of the FY 2009 National Science Foundation Budget.

Status: Closed.

This meeting will be held by teleconference originating from the National Science Board Office, National Science Foundation, 4201 Wilson Blvd., Arlington, VA 22230. Please refer to the National Science Board Web site (http://www.nsf.gov/nsb) for information or schedule updates, or contact: Annette M. Dreher, National Science Board Office, 4201 Wilson Blvd., Arlington, VA 22230. Telephone: (703) 292-7000.

Russell Moy,
Attorney Advisor.

[FR Doc. E7-11734 Filed 6-15-07; 8:45 am]

BILLING CODE 7555-01-P